DEPARTMENT OF COMMERCE

National Oceanic and Atmospheric Administration

RIN 0648-XJ05

South Atlantic Fishery Management Council; Public Hearings

AGENCY: National Marine Fisheries Service (NMFS), National Oceanic and Atmospheric Administration, Commerce.

ACTION: Notice of public hearings.

SUMMARY: The South Atlantic Fishery Management Council (Council) will hold public hearings regarding Amendment 7 to the Shrimp Fishery Management Plan (FMP) for the South Atlantic Region and Amendment 16 to the Snapper Grouper FMP for the South Atlantic Region. Amendment 7 to the Shrimp FMP addresses requirements for South Atlantic rock shrimp endorsements, Vessel Monitoring System (VMS) verification for the rock shrimp fishery, and economic reporting for the shrimp fishery.

Amendment 16 to the Snapper Grouper FMP ends overfishing of gag and vermilion snapper and proposes interim allocations for commercial and recreational sectors. A series of public hearings for Amendment 16 were held from May 7 - 15, 2008. Since that time, additional management alternatives have been included in the amendment.

DATES: The series of 3 public hearings will be held August 7th, 8th, and 12th, 2008. All public hearings will be open from 3 p.m. - 7 p.m. Written comments must be received in the South Atlantic Council's office by 5 p.m. on August 15, 2008.

ADDRESSES: Written comments should be sent to Bob Mahood, Executive Director, South Atlantic Fishery Management Council, 4055 Faber Place Drive, Suite 201, North Charleston, SC 29405. Email comments on Shrimp Amendment 7 to ShrimpAmend7@safmc.net. Email comments for Snapper Grouper Amendment 16 to SGAmend16SecondPH@safmc.net.

Copies of the Public Hearing Documents are available at the Council's web site at www.safmc.net or from Kim Iverson, South Atlantic Fishery Management Council, 4055 Faber Place Drive, Suite 201, North Charleston, SC 29405; telephone: (843) 571-4366 or toll free at (866) SAFMC-10.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION: Proposed actions in Amendment 7 to the Shrimp FMP address: (1) the current 15,000-pound landing requirement for rock shrimp; (2) loss of limited access rock shrimp endorsements due to not meeting the landing requirement by December 31, 2007; (3) loss of limited access rock shrimp endorsements due to failing to renew within the specified timeframe; (4) renaming the rock shrimp permit and endorsement to minimize confusion, (5) requirements for Vessel Monitoring System verification; and (6) requirements for the provision of economic data by shrimp permit holders.

A series of public hearings were held May 7-15, 2008 on management alternatives in Amendment 16 to the Snapper Grouper FMP. The amendment updates management reference points for gag grouper and vermilion snapper, including Maximum Sustainable Yield (MSY), Optimum Yield (OY), Maximum Fishing Mortality Threshold (MFMT) and Minimum Stock Size Threshold (MSST), which reflect current scientific information as provided by stock assessments and approved by the Scientific and Statistical Committee. In addition, the amendment would either alter current management measures or implement new management measures that would reduce current harvest levels to yields associated with the optimum yield and end overfishing of both stocks in the South Atlantic. The Council will also specify interim allocations between the commercial and recreational sectors.

As a response to public input and recommendations from its Snapper Grouper Advisory Panel, in June 2008, the Council agreed to add four additional management alternatives for consideration and analysis in Amendment 16. The new alternatives include: (1) a commercial trip limit of 1,000 pounds for gag with a fishing year start date of May 1. In addition, during March and April, no fishing for and/or possession of the following species would be allowed: gag, black grouper, red grouper, scamp, red hind, rock hind, yellowmouth grouper, tiger grouper, yellowfin grouper, graysby, and coney; (2) a commercial trip limit of 1,000 pounds for gag with a fishing year start date of January 1. In addition, during February, March, and April no fishing for and/or possession of the following species would be allowed: gag, black grouper, red grouper, scamp, red hind, rock hind, yellowmouth grouper, tiger grouper, yellowfin grouper, graysby, and coney; (3) implement a May 1 fishing year start date for the commercial vermilion snapper fishery and a 1,000 pound trip limit for the commercial vermilion snapper fishery; and 4) South of the Miami-Dade/Monroe County line, no fishing for and/or possession of the following species would be allowed during June 1 - December 31: gag, black grouper, red grouper, scamp, red hind, rock hind, yellowmouth grouper, tiger grouper, yellowfin grouper, graysby, and coney. No fishing for and/or possession of gag would be allowed year- round south of the Miami-Dade/Monroe County line. Fishing for black grouper, red grouper, scamp, red hind, rock hind, yellowmouth grouper, tiger grouper, yellowfin grouper, graysby, and coney would be allowed January 1 through May 31 for Monroe County (Southern region). Alternative 4 would apply to both commercial and recreational fisheries.

Council staff and area Council members will be available for presentations, informal discussions, and to answer questions. Members of the public will have an opportunity to go on record at any time during the meeting hours to record their comments on the public hearing issues for Council consideration.

Hearing Dates and Locations

The public hearings will be held at the following locations:

1. August 7, 2008 - Hyatt Regency Jacksonville Riverfront, 225 Coast Line Drive East, Jacksonville, FL 32202, telephone: (904) 588-1234;

2. August 8, 2008 - Radisson Resort at the Port, 8701 Astronaut Boulevard, Cape Canaveral, FL 32920, telephone: (321) 784-0000;

3. August 12, 2008 - Hilton Garden Inn Charleston Airport, 5265 International Blvd., North Charleston, SC 29418, telephone: (843) 308-9330.

Special Accommodations

These hearings are physically accessible to people with disabilities. Requests for sign language interpretation or other auxiliary aids should be directed to the Council office (see ADDRESSES) by August 5, 2008.

Dated: July 11, 2008.
Tracey L. Thompson,
Acting Director, Office of Sustainable Fisheries, National Marine Fisheries Service.

[FR Doc. E8-16242 Filed 7-15-08; 8:45 am]

BILLING CODE 3510-22-S